DEPARTMENT OF ENERGY

Federal Energy Regulatory Commission

[Docket No. EG05-11-000, et al.]

FPL Energy Callahan Wind, L.P., et al.; Electric Rate and Corporate Filings

October 21, 2004.

The following filings have been made with the Commission. The filings are listed in ascending order within each docket classification.

1. FPL Energy Callahan Wind, LP

[Docket No. EG05-11-000]

Take notice that on October 20, 2004, FPL Energy Callahan Wind, LP (FPLE Callahan Wind), 700 Universe Blvd., Juno Beach, FL 33408, filed with the Federal Energy Regulatory Commission an application for determination of exempt wholesale generator status pursuant to part 365 of the Commission's regulations.

FPLE Callahan Wind states it is a wind-powered facility located in Taylor County, Texas with a nameplate capacity of 114 MW. FPLE Callahan Wind further states that the Facility consists of 76 GE Wind Turbine Generators of 1.5 MW each and is expected to commence operations in February 2005. FPLE Callahan Wind states it will sell electricity produced by the Facility exclusively at wholesale within ERCOT.

Comment Date: 5 p.m. eastern time on November 10, 2004.

2. Entergy Services, Inc.

[Docket Nos. ER04-699-000 and ER03-1272-002]

Take notice that on October 15, 2004 Entergy Services, Inc. (Entergy), submitted for filing cost information and workpapers of transmission upgrades in response the Commission's order issued September 16, 2004 in Docket Nos. ER04-699-000 and ER03-1272-002.

Comment Date: 5 p.m. eastern time on November 5, 2004.

3. Southwest Power Pool, Inc.

[Docket No. ER05-55-000]

Take notice that on October 19, 2004, Southwest Power Pool, Inc. (SPP), submitted for filing a Notice of Cancellation of an interconnection and operating agreement (IOA) among SPP, Westar Energy, Inc. (Westar), and Duke Energy Leavenworth, LLC (Duke). SPP requests an effective date of October 18, 2004.

SPP states that copies of the filing were served upon the parties to the IOA.

Comment Date: 5 p.m. eastern time on November 9, 2004.

4. CL Power Sales Nine, L.L.C.

[Docket No. ER05-56-000]

Take notice that on October 18, 2004, CL Power Sales Nine, L.L.C., (CL Nine) by and through Edison Mission Energy submitted for filing a Notice of Cancellation of Market-Based Rate Tariff, CL Power Sales Nine, L.L.C. Rate Schedule FERC Form No. 1.

Comment Date: 5 p.m. eastern time on November 8, 2004.

5. Niagara Mohawk Power Corporation

[Docket No. ER05-57-000]

Take notice that on October 18, 2004, Niagara Mohawk Power Corporation, a National Grid company (Niagara Mohawk), submitted for filing an Interconnection Service Agreement between Niagara Mohawk and General Mills.

Niagara Mohawk states that a copy of this filing will be served upon General Mills, as well as the New York Independent System Operator, Inc., and the New York Public Service Commission.

Comment Date: 5 p.m. eastern time on November 8, 2004.

6. Central Hudson Gas & Electric Corporation

[Docket No. ER05-58-000]

Take notice that on October 18, 2004, Central Hudson Gas & Electric Corporation (Central Hudson) submitted a Notice of Cancellation of its Rate Schedule FERC No. 51, effective July 16, 1975 in Docket No. ER76-79-000. Central Hudson states that it consents to the termination requested by Orange & Rockland Utilities, Inc. (O&R) and, accordingly, requests waiver on the notice requirements set forth in 18 CFR 35.15 of the regulations to permit the notice of cancellation to be effective September 1, 2004.

Central Hudson states that copies of the filing were served upon O&R and the State of New York Public Service Commission.

Comment Date: 5 p.m. eastern time on November 8, 2004.

7. Regional Transmission Organizations

[RT01-99-000, RT01-99-001, RT01-99-002 and RT01-99-003]

Bangor Hydro-Electric Company, et al.

[RT01-86-000, RT01-86-001 and RT01-86-002]

New York Independent System Operator, Inc., et al.

[RT01-95-000, RT01-95-001 and RT01-95-002]

PJM Interconnection, L.L.C., et al.

[RT01-2-000, RT01-2-001, RT01-2-002 and RT01-2-003]

PJM Interconnection, L.L.C.

[RT01-98-000]

ISO New England, Inc.

New York Independent System Operator, Inc.

[RT02-3-000]

Take notice that PJM Interconnection, L.L.C., New York Independent System Operator, Inc. and ISO New England, Inc., have posted on their internet web sites charts and information updating their progress on the resolution of ISO seams.

Comment Date: 5 p.m. eastern time on November 12, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, N.E., Washington, D.C. 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-2906 Filed 10-28-04; 8:45 am]

BILLING CODE 6717-01-P